DEPARTMENT OF LABOR

Office of the Secretary of Labor

29 CFR Part 37

[Docket No. DOL-2025-0004]

RIN 1291-AA46

Rescission of Nondiscrimination and Equal-Opportunity Provisions of the Workforce Investment Act

AGENCY: Office of the Secretary, Department of Labor.

ACTION: Direct final rule; confirmation of effective date.

SUMMARY: The U.S. Department of Labor (Department) is confirming the effective date of September 2, 2025, for the direct final rule (DFR) that was published in the Federal Register on July 1, 2025. This DFR rescinds the regulations that implemented the nondiscrimination and equal opportunity provisions of the Workforce Investment Act (WIA). Under WIA, the Department provided financial assistance to certain recipients for the purpose of establishing programs to meet the job training needs of youth and adults facing serious barriers to employment. Section 188 of WIA contained the nondiscrimination and equal opportunity provisions that prohibited discrimination on the grounds of race, color, religion, sex, national origin, age, disability, political affiliation or belief, and, for beneficiaries only, citizenship status or participation in a WIA-funded program or activity. WIA was repealed by Congress with the enactment of the Workforce Innovation and Opportunity Act (WIOA) on June 22, 2014, and the WIA Section 188 regulations have been superseded by those implementing Section 188 of WIOA. All remaining grant funding under WIA Title I has been closed out by the Department. Accordingly, these regulations are no longer necessary, and the Department is removing the regulations from the Code of Federal Regulations (CFR) for this program that is no longer operative.

DATES: The effective date of September 2, 2025, for the DFR published July 1, 2025 (90 FR 27999), is confirmed.

FOR FURTHER INFORMATION CONTACT: Naomi Barry-Perez, Director, Civil Rights Center, U.S. Department of Labor, 200 Constitution Avenue NW, Room N-4123, Washington, DC 20210, telephone (202) 693-6500 (this is not a toll-free number). For persons with a hearing or speech disability who need assistance using the telephone system, please dial 711 to access telecommunications relay services. You may obtain publicly-available information related to this action by visiting https://www.regulations.gov and searching for Docket ID DOL-2025-0004.

SUPPLEMENTARY INFORMATION: On July 1, 2025, the Department published a DFR removing its regulations at 29 CFR part 37 for a program that is no longer operative. In the DFR, the Department stated that if no significant adverse comments were received, then the rule would become effective on September 2, 2025. Comments from the public were due on July 31, 2025, and were posted publicly in Docket ID DOL-2025-0004 on www.regulations.gov.

The Department received three comments opposed to the removal of the WIA regulations, but the comments did not meet the criteria to be considered significant adverse comments to warrant either withdrawing the rule or issuing a new final rule in response. A significant adverse comment ¹ explains why the rule would be inappropriate, including challenges to the rule's underlying premise or approach, or why it would be ineffective or unacceptable without a change. The comments the Department received on the DFR are not significant adverse comments as they do not explain why removing these regulations from the CFR would be inappropriate or how removal would have consequences for the administration of Departmental programs. Two of the comments incorrectly stated that the DFR would affect the regulations implementing WIOA section 188; WIA was repealed by Congress with the enactment of WIOA. Public Law 113-128, July 22, 2014, 128 Stat 1425. The regulations implementing section 188 of WIOA at 29 CFR part 38 are not impacted in any way by this DFR. The other comment opposing the DFR did not provide a substantive basis for objecting to the rule, point to any particular provisions of the rule that were ineffective or unacceptable, or provide any specific ways that the rule could be changed or improved upon. Regardless, because WIA was repealed, the regulations at 29 CFR part 37 are obsolete and their removal is both warranted and ministerial.

¹ Administrative Conference of the United States, “Procedures for Noncontroversial and Expedited Rulemaking,” Recommendation by the Committee on Regulation, January 15, 1995. Accessed on August 18, 2025, at: https://www.acus.gov/document/procedures-noncontroversial-and-expedited-rulemaking.

Therefore, the DFR will become effective on September 2, 2025, as stated in the DFR.

Dated: August 25, 2025.
Dean Heyl,
Assistant Secretary for Administration and Management, Department of Labor.

[FR Doc. 2025-16492 Filed 8-27-25; 8:45 am]

BILLING CODE 4510-04-P